DEPARTMENT OF TRANSPORTATION

[Docket No. OST-2007-27407

National Surface Transportation Infrastructure Financing Commission

AGENCY: Department of Transportation (DOT).

ACTION: Notice of meeting location and time.

SUMMARY: This notice lists the location and time of the eighth meeting of the National Surface Transportation Infrastructure Financing Commission.

FOR FURTHER INFORMATION CONTACT: John V. Wells, Chief Economist, U.S. Department of Transportation, (202) 366-9224, jack.wells@dot.gov.

SUPPLEMENTARY INFORMATION: By Federal Register Notice dated March 12, 2007, and in accordance with the requirements of the Federal Advisory Committee Act (“FACA”) (5 U.S.C. App. 2) and the Safe, Accountable, Flexible, Efficient Transportation Equity Act: A Legacy for Users (“SAFETEA-LU”) (Pub. L. 109-59, 119 Stat. 1144), the U.S. Department of Transportation (the “Department”) issued a notice of intent to form the National Surface Transportation Infrastructure Financing Commission (the “Financing Commission”.) Section 11142(a) of SAFETEA-LU established the National Surface Transportation Infrastructure Financing Commission and charged it with analyzing the future highway and transit needs and the finances of the Highway Trust Fund and with making recommendations regarding alternative approaches to financing transportation infrastructure.

Notice of Meeting Location and Time: The Commissioners have agreed to hold their eighth meeting from 8:30 a.m. to 4 p.m. on Tuesday, February 12, 2008. The meeting will be open to the public and is scheduled to take place at the APS Corporate Office, Two Arizona Center, 400 N. 5th Street, Phoenix, Arizona 85004, in Conference Room CHQ2 South.

If you need accommodations because of a disability or require additional information to attend these meetings, please contact John V. Wells, Chief Economist, U.S. Department of Transportation, (202) 366-9224, jack.wells@dot.gov.

Issued on this 10th day of January, 2008.
John V. Wells,
Chief Economist, U.S. Department of Transportation, Designated Federal Official.

[FR Doc. 08-263 Filed 1-23-08; 8:45 am]

BILLING CODE 4910-9X-M